NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 6, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Acting Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (note the new address for requesting schedules using e-mail):

1. Department of Education, Office of the Chief Financial Officer (N1-441-05-4, 3 items, 3 temporary items). Records relating to the activities of the agency's institutional review board pertaining to the protection of human subjects involved in research projects conducted or funded by the agency. Included are such records as minutes of meetings, copies of research proposals, decision/approval documents, and progress reports submitted by investigators. Electronic copies of records created using electronic mail and word processing are also included.

2. Department of Justice, Criminal Division (N1-60-04-6, 4 items, 3 temporary items). S-Visa case files, including electronic copies of records created using electronic mail and word processing. Proposed for permanent retention are recordkeeping copies of historically significant case files.

3. Department of Justice, Civil Division (N1-60-04-7, 12 items, 7 temporary items). Inputs and outputs of the Victim Compensation Management System, claimant case files, and general correspondence of the September 11th Victim Compensation Fund of 2001. Also included are electronic copies of records created using electronic mail and word processing. Proposed for permanent retention are recordkeeping copies of background and policy files relating to the administration of the Fund, and the master files and system documentation of the Victim Compensation Management System, which includes a complete copy of the claimant case file and a tracking database.

4. Department of Justice, Office on Violence Against Women (N1-60-05-5, 3 items, 3 temporary items). Grant case files and electronic copies of records created using electronic mail and word processing.

5. Department of Justice, Federal Bureau of Investigation (N1-65-04-5, 19 items, 17 temporary items). Inputs, outputs, system documentation, master files, and related records associated with the Integrated Automated Fingerprint Identification System. Proposed for permanent retention are the Interstate Identification Index and the related system documentation.

6. Department of Justice, Federal Bureau of Investigation (N1-65-05-4, 7 items, 6 temporary items). Distribution copies, distribution lists, standard operating procedures, and originating office input for the Director's briefing books accumulated by the Current Intelligence Unit. Also included are electronic copies of records created using electronic mail and word processing. Proposed for permanent retention are the master copies of the Director's briefing books.

7. Department of Justice, Federal Bureau of Investigation (N1-65-05-5, 13 items, 9 temporary items). Inputs, outputs, and master files of the Freedom of Information Act/Privacy Act Processing System. Proposed for permanent retention are the electronic versions of redacted case files where the original case file is scheduled as permanent, system documentation, and records relating to cases litigated before the Supreme Court.

8. Department of Justice, Bureau of Prisons (N1-129-05-6, 5 items, 5 temporary items). Inputs, outputs, master files and system documentation associated with an electronic system which summarizes financial data, inventory backlogs, and sales data in graphic and textual form. Also included are electronic copies of records created using electronic mail and word processing.

9. Department of Justice, Bureau of Prisons (N1-129-05-7, 6 items, 6 temporary items). Inputs, outputs, master files, and system documentation associated with the Bureau's Trust Fund Accounting and Commissary System, which is used to maintain and track inmate financial transactions as well as warehouse and commissary inventories and commissary sales. Also included are electronic copies of records created using electronic mail or word processing.

10. Department of Justice, Bureau of Prisons (N1-129-05-8, 3 items, 3 temporary items). Architectural renovation and modification records and correspondence files accumulated by the Administration Division's Facilities Branch. Also included are electronic copies of records created using electronic mail and word processing. Recordkeeping copies of construction drawings and modifications accumulated by the Design and Construction Branch are proposed for permanent retention in a pending schedule.

11. Department of State, Bureau of Educational and Cultural Affairs (N1-59-05-1, 4 items, 3 temporary items). Schedules of daily activities maintained by the Assistant Secretary for Educational and Cultural Affairs and electronic copies of records created using electronic mail and word processing. Proposed for permanent retention are recordkeeping copies of subject files of the Assistant Secretary.

12. Environmental Protection Agency, Office of Air and Radiation (N1-412-05-8, 6 items, 3 temporary items). Electronic software programs, inputs, and electronic data pertaining to allowance tracking. Records are associated with the Clean Air Markets Division Business System, which is used in connection with the market-based emissions trading program. Proposed for permanent retention are the electronic data and supporting documentation for sub-systems that include source management data and emissions tracking data.

Dated: July 13, 2005.
Michael J. Kurtz,
Assistant Archivist for Records Services—Washington, DC.

[FR Doc. 05-14209 Filed 7-19-05; 8:45 am]

BILLING CODE 7515-01-P